FEDERAL COMMUNICATIONS COMMISSION

Notice of Public Information Collection(s) Being Reviewed by the Federal Communications Commission, Comments Requested

May 19, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before August 1, 2005. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0139.

Title: Application for Antenna Structure Registration.

Form No.: FCC Forms 854 and 854-R.

Type of Review: Revision of a currently approved collection.

Respondents: Individuals or households; business or other for-profit; not-for-profit institutions; and State, local or tribal government.

Number of Respondents: 9,000.

Estimated Time Per Response: .50 hours.

Frequency of Response: On occasion reporting requirement, recordkeeping requirement and third party disclosure requirement.

Total Annual Burden: 6,750 hours.

Total Annual Cost: $183,000.

Privacy Act Impact Assessment: Yes.

Needs and Uses: Owners of wire or radio communications towers with antenna structures use FCC Form 854 to register their structures within the United States; to notify the Commission when a structure has been built; to make changes to an existing registered structure; or to notify the Commission when a structure is dismantled. Sections 303(q) and 503(b)(5) of the Communications Act of 1934, as amended and 47 CFR part 17 authorize the Commission to require the painting and/or illumination of radio towers where there is a reasonable possibility that an antenna structure may cause a hazard to air navigation.

The Commission is revising the FCC Form 854 to correct e-mail addresses, Web site addresses, mailing addresses, telephone numbers and instructions for obtaining an FCC Registration Number (FRN). The Commission uses FCC Form 854-R to notify an owner that we have registered the tower structure, received its modification, or the change of ownership.

Federal Communications Commission.
Marlene H. Dortch,
Secretary.

[FR Doc. 05-10563 Filed 5-31-05; 8:45 am]

BILLING CODE 6712-01-P